DEPARTMENT OF TRANSPORTATION

Federal Motor Carrier Safety Administration

[Docket No. FMCSA-2008-0362]

Medical Review Board Public Meeting

AGENCY: Federal Motor Carrier Safety Administration (FMCSA), DOT.

ACTION: Notice of Medical Review Board (MRB) public meeting.

SUMMARY: FMCSA announces that the Medical Review Board will meet on Tuesday and Wednesday, July 29—30, 2014. The MRB will continue its deliberations on Schedule II Controlled Substances and their effect on commercial motor vehicle (CMV) drivers' ability to operate safely. The entire meeting is open to the public and there will be a public comment period at the end of each day.

Time and Dates: The meeting will be held on Tuesday, July 29, 2014, from 9:00 a.m. to 4:30 p.m., and on Wednesday, July 30, 2014, from 9 a.m. to 12:00 p.m., Eastern Daylight Time (E.D.T.). The meeting will be held at the FMCSA National Training Center (NTC), 1310 North Courthouse Road, Suite 600, Arlington, VA. The NTC is located near the Courthouse Metro station.

An agenda for the meeting will be made available in advance of the meeting at http://mrb.fmcsa.dot.gov.

FOR FURTHER INFORMATION CONTACT: Eileen Nolan, R.N., MRB Liaison, Medical Programs Division, Federal Motor Carrier Safety Administration, 1200 New Jersey Avenue SE., Washington, DC 20590, (202) 366-4001, fmcsamedical@dot.gov.

Services for Individuals With Disabilities

For information on facilities or services for individuals with disabilities or to request special assistance at the meeting, contact Mr. Eran Segev at (617) 494-3174, eran.segev@dot.gov, by Monday, July 21, 2014.

SUPPLEMENTARY INFORMATION:

I. Background

MRB

Section 4116 of the Safe, Accountable, Flexible, Efficient Transportation Equity Act: A Legacy for Users (SAFETEA-LU), [Pub. L. 109-59, 119 Stat. 1144, Aug. 10, 2005] requires the Secretary of Transportation, with the advice of the MRB and the chief medical examiner, to establish, review, and revise “medical standards for operators of commercial motor vehicles that will ensure that the physical condition of operators of commercial motor vehicles is adequate to enable them to operate the vehicles safely.” Composed of five medical experts who each serve 2-year terms, the MRB members are appointed by the Secretary.

The MRB operates in accordance with the Federal Advisory Committee Act (FACA) as announced in the Federal Register (70 FR 57642, October 3, 2005). The MRB is charged with the review of all current FMCSA medical standards (49 CFR 391.41), as well as proposing new science-based standards and guidelines to ensure that drivers operating CMVs in interstate commerce, as defined in 49 CFR 390.5, are physically capable of doing so.

II. Meeting Participation

Oral comments from the public will be heard during the last thirty minutes of each day of the meeting. Should all public comments be exhausted prior to the end of the specified period, the comment period will close.

Members of the public may submit written comments by Monday, July 21, 2014, to Federal Docket Management System (FDMC) Docket Number FMCSA-2008-0362 using one of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE., Room W12-140, Washington, DC, between 9 a.m. and 5 p.m., E.T. Monday through Friday, except Federal holidays.

Issued on: July 3, 2014.
Larry W. Minor,
Associate Administrator for Policy.

[FR Doc. 2014-16289 Filed 7-10-14; 8:45 am]

BILLING CODE 4910-EX-P